DEPARTMENT OF AGRICULTURE

Rural Utilities Service

Georgia Transmission Corporation; Notice of Finding of No Significant Impact

AGENCY: Rural Utilities Service, USDA.

ACTION: Notice of finding of no significant impact.

SUMMARY: Notice is hereby given that the Rural Utilities Service (RUS) has made a finding of no significant impact (FONSI) with respect to a request from Georgia Transmission Corporation for assistance from RUS to finance the construction of a 230 kV electric transmission line in Colquitt, Brooks, and Lowndes Counties, Georgia.

FOR FURTHER INFORMATION CONTACT: Bob Quigel, Environmental Protection Specialist, Engineering and Environmental Staff, RUS, Stop 1571, 1400 Independence Avenue, SW., Washington, DC 20250-1571, telephone (202) 720-0468, fax (202) 720-0820, e-mail at bquigel@rus.usda.gov.

SUPPLEMENTARY INFORMATION: Georgia Transmission Corporation proposes to construct approximately 37.5 miles of 230 kV transmission line from Georgia Power Company's East Moultrie Substation to Georgia Power Company's West Valdosta Substation. The East Moultrie Substation is located northeast of Moultrie approximately ¾ miles west of the intersection of State Road 35 and J.O. Stewart Road. The West Valdosta Substation is located on Snake Nation Road west of Valdosta approximately 0.4 miles west of the intersection of Snake Nation Road and Shiloh Road (County Road 775). The transmission line will traverse through southwestern Colquitt County, Georgia, the northeast corner of Brooks County, Georgia, and western Lowndes County, Georgia. Single pole and H-frame structures will be used to support the transmission line conductors and shield wires. Where single pole structures are used, the width of the right-of-way will be 100 feet. Normally, where the proposed right-of-way parallels a road, the centerline will be located approximately 9 feet outside the road right-of-way and the transmission line easement will extend another 50 feet. Where H-frame structures are used, primarily to cross large center-pivot irrigation systems, the width of the right-of-way will be 125 feet. Approximately 286 single pole concrete structures will be used for the majority of this project. Four concrete H-frame structures, typically with steel crossarms, will be used to span large center-pivot irrigation systems. Typical pole structures for this project will be approximately 95 feet in height. The conductors will be approximately 1⅓ inches in diameter. Three-eighths inch diameter shield wire will be used for lightning protection.

Copies of the FONSI are available for review at, or can be obtained from, RUS at the address provided herein or from Mr. Vince Howard, Georgia Transmission Corporation, 2100 East Exchange Place, Tucker, Georgia 30085-2088, telephone (770) 270-7635. Mr. Howard's e-mail address is vince.howand@gatrans.com.

Dated: May 23, 2002.
Blaine D. Stockton,
Assistant Administrator, Electric Program, Rural Utilities Service.

[FR Doc. 02-13525 Filed 5-29-02; 8:45 am]

BILLING CODE 3410-15-P